DEPARTMENT OF HEALTH AND HUMAN SERVICES

National Institutes of Health

Center for Scientific Review; Amended Notice of Meeting

Notice is hereby given of a change in the meeting of the Center for Scientific Review Special Emphasis Panel, May 22, 2018, 10:00 a.m. to May 22, 2018, 5:00 p.m., National Institutes of Health, 6701 Rockledge Drive, Bethesda, MD 20892 which was published in the Federal Register on May 9, 2018, 83 FR 21301.

The meeting will be held on June 13, 2018 at 11:00 a.m. The meeting location remains the same. The meeting is closed to the public.

Dated: May 10, 2018.
David D. Clary,
Program Analyst, Office of Federal Advisory Committee Policy.

[FR Doc. 2018-10470 Filed 5-15-18; 8:45 am]

BILLING CODE 4140-01-P